ARCHITECTURAL AND TRANSPORTATION BARRIERS COMPLIANCE BOARD

36 CFR Parts 1193 and 1194

[Docket No. 2006-1]

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee to assist it in revising and updating accessibility guidelines for telecommunications products and accessibility standards for electronic and information technology. This notice announces the dates, time, and location of the first Committee meeting, which will be open to the public.

DATES: The meeting is scheduled for September 27, 2006 (beginning at 1 p.m. and ending at 5 p.m.), September 28, 2006 (beginning at 9 a.m. and ending at 5 p.m.) and September 29, 2006 (beginning at 9 a.m. and ending at 3:30 p.m.). Decisions with respect to future meetings will be made at the first meeting and from time to time thereafter. Notices of future meetings will be published in the Federal Register.

ADDRESSES: The meeting will be held at the National Science Foundation, Room II-555, 4201 Wilson Boulevard, Arlington, VA.

FOR FURTHER INFORMATION CONTACT: Timothy Creagan, Office of Technical and Information Services, Architectural and Transportation Barriers Compliance Board, 1331 F Street, NW., suite 1000, Washington, DC 20004-1111. Telephone number (202) 272-0016 (Voice); (202) 272-0082 (TTY). Electronic mail address: creagan@access-board.gov.

SUPPLEMENTARY INFORMATION: On July 6, 2006 the Architectural and Transportation Barriers Compliance Board (Access Board) published a notice establishing the Telecommunications and Electronic and Information Technology Advisory Committee (Committee) (71 FR 38324, July 6, 2006). The committee will provide recommendations for revisions and updates to accessibility guidelines for telecommunications products and accessibility standards for electronic and information technology. Forty organizations were appointed as members of the Committee. After the notice was published, it came to our attention that the application from the Japanese Standards Association, which had been timely received, had been overlooked. As a result, Access Board Chairman David Bibb has added the Japanese Standards Association as a committee member. We apologize for this oversight. Additionally, on July 26, 2006, the Access Board Chairman announced the appointment of Mike Paciello and Jim Tobias as co-chairs of the advisory committee. Mr. Paciello is the Founder and Principal of the Paciello Group from Nashua, New Hampshire and Mr. Tobias is the Principal of Inclusive Technologies from Matawan, New Jersey.

Over 120 organizations applied to serve on the committee. In order to keep the Committee to a size that can be effective, it was necessary to limit membership. It is also important to have balance among members of the Committee representing different clusters of interest, such as disability organizations and the technology industry. Some organizations that were not accepted have asked that their applications be reconsidered. Additionally, some organizations learned about the committee too late to submit an application. On Thursday, September 28 (at approximately 2:30 p.m.) there will be time set aside on the agenda to discuss additional committee applicants. Organizations seeking to be added to the committee are encouraged to contact Timothy Creagan prior to the meeting (see FOR FURTHER INFORMATION CONTACT above).

A draft meeting agenda and other information about the Committee are available on the Access Board's Web site at http://www.access-board.gov/sec508/update-index.htm. Committee meetings are open to the public and interested persons can attend the meetings and communicate their views. Members of the public will have an opportunity to address the Committee on issues of interest to them and the Committee during public comment periods scheduled on each day of the meeting. Members of groups or individuals who are not members of the Committee are invited to participate on subcommittees that will be formed. The Access Board believes that participation of this kind can be very valuable for the advisory committee process.

The meeting site is accessible to individuals with disabilities. Sign language interpreters and real-time captioning will be provided. Individuals who require other accommodations should contact Timothy Creagan by September 20, 2006 (see FOR FURTHER INFORMATION CONTACT above). Persons attending Committee meetings are requested to refrain from using perfume, cologne, and other fragrances for the comfort of other participants.

Due to security measures at the National Science Foundation, members of the public should notify Timothy Creagan of their intent to attend the meeting (see FOR FURTHER INFORMATION CONTACT above). This will ensure that a name badge is available at the National Science Foundation check-in desk to facilitate efficient building entry and will enable the Board to provide additional information about mandatory technology screening processes which the National Science Foundation requires.

James J. Raggio,
General Counsel.

[FR Doc. E6-15061 Filed 9-11-06; 8:45 am]

BILLING CODE 8150-01-P